SECURITIES AND EXCHANGE COMMISSION

Sunshine Act Meetings

Notice is hereby given, pursuant to the provisions of the Government in the Sunshine Act, Public Law 94-409, that the Securities and Exchange Commission will hold the following meetings during the week of April 28, 2003:

Closed Meetings will be held on Tuesday, April 29, 2003 at 10 a.m., April 30, 2003 at 11 a.m., and Thursday, May 1, 2003 at 10 a.m. An Open meeting will be held on Wednesday, April 30, 2003 at 10 a.m., in Room 6600.

Commissioners, Counsel to the Commissioners, the Secretary to the Commission, and recording secretaries will attend the closed meetings. Certain staff members who have an interest in the matters may also be present.

Commissioner Atkins, as duty officer, determined that no earlier notice thereof was possible.

The General Counsel of the Commission, or his designee, has certified that, in his opinion, one or more of the exemptions set forth in 5 U.S.C. 552b(c) (3), (5), (7), (8), (9)(B) and (10) and 17 CFR 200.402(a) (3), (5), (7), (8) (9)(ii) and (10), permit consideration of the scheduled matters at the closed meetings.

The subject matter of the closed meeting scheduled for Tuesday, April 29, 2003 will be: Institution and settlement of administrative proceedings of an enforcement nature; Institution and settlement of injunctive actions; Regulatory matter regarding a financial institution; and Formal orders of investigation.

The subject matter of the open meeting scheduled for Wednesday, April 30, 2003 will be:

The Commission will hear oral argument on appeals by Byron G. Borgardt and Eric M. Banhazl, and the Division of Enforcement, from the decision of an administrative law judge. Borgardt was formerly an officer and director of Target Income Fund, a now-defunct registered investment company. Banhazl was formerly an officer of Target Income Fund.

The law judge found that Borgardt and Banhazl caused, within the meaning of Section 8A of the Securities Act of 1933 and Section 9(f) of the Investment Advisers Act of 1940, Target Income Fund to file registration statements with the Commission between 1992 and 1996 that omitted material information in violation of Sections 17(a)(2) and 17(a)(3) of the Securities Act and Section 34(b) of the Advisers Act. The law judge also found that some of the omissions charged were not material.

The law judge ordered Borgardt and Banhazl to cease and desist from causing any violations or future violations of Sections 17(a)(2) and 17(a)(3) of the Securities Act and from committing any violations or future violations of Section 34(b) of the Investment Company Act.

Among the issues likely to be argued are:

1. Whether respondents committed the alleged violations;

2. Whether the omissions charged were material as a matter of law; and,

3. If respondents committed violations, whether sanctions should be imposed in the public interest.

The subject matter of the closed meeting scheduled for April 30, 2003 will be: Post-argument Discussion.

The subject matter of the closed meeting scheduled for Thursday, May 1, 2003 will be: Institution and settlement of injunctive actions; Opinion; Formal order of investigation; and Institution and settlement of administrative proceedings of an enforcement nature.

At times, changes in Commission priorities require alterations in the scheduling of meeting items. For further information and to ascertain what, if any, matters have been added, deleted, or postponed, please contact:

The Office of the Secretary at (202) 942-7070.

Dated: April 24, 2003.
Jonathan G. Katz,
Secretary.

[FR Doc. 03-10628 Filed 4-25-03; 12:02 pm]

BILLING CODE 8010-01-P